NUCLEAR REGULATORY COMMISSION

[Docket No. 030-06869; NRC-2009-0069]

Notice of Availability of Environmental Assessment and Finding of No Significant Impact for License Amendment for Unitech Services Group, Honolulu, HI

AGENCY: Nuclear Regulatory Commission.

ACTION: Notice of availability.

FOR FURTHER INFORMATION CONTACT: Jack E. Whitten, Chief, Nuclear Materials Safety Branch B, Division of Nuclear Materials Safety, Region IV, U.S. Nuclear Regulatory Commission, 612 E Lamar Blvd, Arlington, Texas 76011.Telephone: (817) 860-8197; fax number: (817) 860-8188; e-mail: jack.whitten@nrc.gov.

SUPPLEMENTARY INFORMATION:

I. Introduction

The Nuclear Regulatory Commission (NRC) is considering the issuance of a license amendment to Material License No. 53-13668-01, issued to Unitech Services Group (the licensee), to authorize the release of its former nuclear laundry facility at 3050 Ualena Street, Suite C, in Honolulu, Hawaii, and to terminate the license. NRC has prepared an Environmental Assessment (EA) in support of this amendment in accordance with the requirements of 10 CFR Part 51. Based on the EA, the NRC has concluded that a Finding of No Significant Impact (FONSI) is appropriate. The amendment will be issued following the publication of this Notice.

II. EA Summary

The purpose of the proposed amendment is to authorize the release of the licensee's facility located in Honolulu, Hawaii. Specifically, the NRC plans to approve the licensee's request to release the facility for unrestricted use and to terminate the license. On September 4, 2008, Unitech Services Group requested that NRC approve the proposed amendment. The staff has prepared this EA in support of the proposed license amendment.

Docket file records indicate that the licensee conducted nuclear laundry operations at the Ualena Street location from 1974-2007. In a letter to the NRC dated August 16, 2007, the licensee stated that it had permanently ceased operations at this site. The primary radionuclide of concern was cobalt-60. Other radionuclides of concern included nickel-63, manganese-54, cobalt-58, iron-55, and zinc-65. The NRC staff determined that a decommissioning plan was not required because decommissioning instructions were provided in the license application. The licensee commenced with decommissioning during October 2007 and completed decommissioning during September 2008. The NRC conducted two inspections during the decommissioning process. During the inspections, the NRC staff observed that the licensee was conducting decommissioning in accordance with license requirements. The licensee submitted a final status survey report to the NRC by letter dated September 4, 2008. The licensee's final status survey results, in conjunction with the NRC's confirmatory survey results, demonstrated that the licensee had effectively remediated the site in accordance with regulatory guidance documents. Because the site had been effectively remediated in accordance with NRC guidance and license requirements, the NRC staff has concluded that the facility meets the criteria of 10 CFR Part 20, Subpart E, for unrestricted release and for termination of the license.

The Hawaii State Department of Health was consulted about this EA, and the State had no comments on the EA or the proposed action.

III. Finding of No Significant Impact

On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are:

1. NRC, “Generic Environmental Impact Statement in Support of Rulemaking on Radiological Criteria for License Termination of NRC-Licensed Nuclear Facilities,” NUREG-1496, July 1997 (ML042310492, ML042320379, and ML042330385);

2. NRC, “Consolidated NMSS Decommissioning Guidance,” NUREG-1757, Volume 1, Revision 2, September 2006 (ML063000243);

3. NRC, “Multi-Agency Radiation Survey and Site Investigation Manual (MARSSIM),” NUREG-1575, Revision 1, August 2000 (ML003761445, ML003761454);

4. Title 10 Code of Federal Regulations, Part 20, Subpart E, “Radiological Criteria for License Termination;”

5. Title 10, Code of Federal Regulations, Part 51, “Environmental Protection Regulations for Domestic Licensing and Related Regulatory Functions;”

6. Unitech Services Group, “Notice of Decommissioning Activities Pursuant to Title 10 Code of Federal Regulations (CFR) 30.36(d) and License Amendment Request,” August 16, 2007 (ML072400267);

7. Unitech Services Group, “Reply to NRC Letter Dated August 30, 2007,” October 2, 2007 (ML072841267);

8. Unitech Services Group, “Certificate of Disposition of Materials,” August 5, 2008, (ML082310743);

9. Unitech Services Group, “Final Status Survey Report,” September 4, 2008 (ML082600080); and

10. State of Hawaii Response, January 20, 2009 (ML090220588).

If you do not have access to ADAMS or if there are problems in accessing the documents located in ADAMS, contact the NRC Public Document Room (PDR) Reference staff at 1-800-397-4209, 301-415-4737, or by e-mail to pdr@nrc.gov.

These documents may also be viewed electronically on the public computers located at the NRC's Public Document Room (PDR), O 1 F21, One White Flint North, 11555 Rockville Pike, Rockville, MD 20852. The PDR reproduction contractor will copy documents for a fee.

Dated at Arlington, Texas this 11th day of February 2009.
For the Nuclear Regulatory Commission.
Jack E. Whitten,
Chief, Nuclear Materials Safety Branch B Division of Nuclear Materials Safety Region IV.

[FR Doc. E9-3768 Filed 2-20-09; 8:45 am]

BILLING CODE 7590-01-P